DEPARTMENT OF DEFENSE

Department of the Air Force

HQ USAF Scientific Advisory Board

AGENCY: Department of the Air Force, DoD.

ACTION: Notice of Meeting.

SUMMARY: Pursuant to Public Law 92-463, notice is hereby given of the forthcoming meeting of the Unmanned Aerial Vehicles and Long-Range Strike Studies. The purpose of the meeting is to brief the Chief of Staff on the results of the study. This meeting will be closed to the public.

DATES: 31 July 2003.

ADDRESSES: Room 4E987, The Pentagon.

FOR FURTHER INFORMATION CONTACT: Maj Dwight Pavek, Air Force Scientific Advisory Board Secretariat, 1180 Air Force Pentagon, Rm 5D982, Washington DC 20330-1180, (703) 697-4811.

Pamela D. Fitzgerald,
Air Force Federal Register Liaison Officer.

[FR Doc. 03-21429 Filed 8-20-03; 8:45 am]

BILLING CODE 5001-05-P